DEPARTMENT OF ENERGY

Federal Energy Regulatory Commission

[Docket No. CP16-116-000]

Texas LNG Brownsville LLC; Notice of Availability of the Draft Supplemental Environmental Impact Statement for the Proposed Texas LNG Project

The staff of the Federal Energy Regulatory Commission (FERC or Commission) has prepared a draft supplemental environmental impact statement (EIS) to address the August 6, 2024 Opinion issued by the U.S. Court of Appeals for the District of Columbia Circuit (court) regarding the Commission's environmental review of the Texas LNG Project proposed by Texas LNG Brownsville LLC.1 2 The court remanded the Commission's April 21, 2023 “Order on Remand” that approved the liquefied natural gas (LNG) terminal. The court found that FERC failed to issue a supplemental EIS consistent with the National Environmental Policy Act to discuss impacts on communities with environmental justice concerns and address why the Commission did not use data from a particular air quality monitor in the air analysis. As part of the Commission's consideration of the proposed projects on remand, we ³ prepared this draft supplemental EIS to assess the issues remanded by the court.

¹ City of Port Isabel v. FERC, 111 F.4th 1198 (D.C. Cir. 2024). On March 18, 2025, the court partially granted rehearing and remanded the case without vacatur.

² Tracking purposes under the National Environmental Policy Act, the unique identification number for documents relating to this environmental review is FERC/SEIS-019-20-000-1726224938.

³ “We,” “us,” and “our” refer to the environmental and engineering staff of the FERC's Office of Energy Projects.

The Commission mailed a copy of the “Notice of Availability” of the draft supplemental EIS to Federal, State, and local government representatives and agencies; elected officials; environmental and public interest groups; Native American Tribes; potentially affected landowners and other interested individuals and groups; and newspapers and libraries in the project area. The draft supplemental EIS is only available in electronic format. It may be viewed and downloaded from the FERC's website (www.ferc.gov), on the natural gas environmental documents page (https://www.ferc.gov/industries-data/natural-gas/enviroment/environmentaldocuments). In addition, the draft supplemental EIS may be accessed by using the eLibrary link on the FERC's website. Click on the eLibrary link (https://www.ferc.gov/eLibrary/search), select “General Search” and enter the docket number in the “Docket Number” field, excluding the last three digits (i.e., CP16-116). Be sure you have selected an appropriate date range. For assistance, please contact FERC Online Support at FercOnlineSupport@ferc.gov or toll free at (866) 208-3676, or for TTY, contact (202) 502-8659.

The draft supplemental EIS is not a decision document. It presents Commission staff's independent analysis of the environmental issues for the Commission to consider when addressing the merits of all issues in this proceeding. Any person wishing to comment on the draft supplemental EIS may do so. Your comments should focus on the draft supplemental EIS's disclosure and discussion of potential environmental effects, and measures to avoid or lessen environmental impacts disclosed within this document. To ensure consideration of your comments on the proposal in the final supplemental EIS, it is important that the Commission receive your comments on or before 5:00 p.m. Eastern Time on May 19, 2025.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also on the Commission's website (www.ferc.gov) under the link to FERC Online. With eFiling, you can provide comments in a variety of formats by attaching them as a file with your submission. New eFiling users must first create an account by clicking on “eRegister.” You will be asked to select the type of filing you are making; a comment on a particular project is considered a “Comment on a Filing;”; or

(3) You can file a paper copy of your comments by mailing them to the Commission. Be sure to reference the project docket number (CP16-116-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852.

Any person seeking to become a party to the proceeding must file a motion to intervene pursuant to Rule 214 of the Commission's Rules of Practice and Procedures (18 CFR 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: March 28, 2025.
Debbie-Anne A. Reese,
Secretary.

[FR Doc. 2025-05774 Filed 4-3-25; 8:45 am]

BILLING CODE 6717-01-P